DEPARTMENT OF ENERGY

Federal Energy Regulatory Commission

[Docket No. EC01-126-000, et al.]

Northeast Empire Limited Partnership #1, et al.; Electric Rate and Corporate Regulation Filings

July 17, 2001.

Take notice that the following filings have been made with the Commission:

1. Northeast Empire Limited Partnership #1, Northeast Empire Limited Partnership #2, Boralex Livermore Falls, Inc., and Boralex Ashland, Inc.

[Docket No. EC01-126-000]

Take notice that on July 11, 2001, Northeast Empire Limited Partnership #1 (NELP#1), Northeast Empire Limited Partnership #2 (NELP#2), Boralex Livermore Falls, Inc. (Boralex Livermore Falls), and Boralex Ashland, Inc. (Boralex Ashland) (collectively, Applicants) filed with the Federal Energy Regulatory Commission an application pursuant to section 203 of the Federal Power Act (FPA) for authorization of a disposition of jurisdictional facilities whereby NELP#1 will divest, and Boralex Livermore Falls will acquire, a 37 megawatt (net) wood-burning qualifying small power production facility located in Livermore Falls, Maine, and NELP#2 will divest, and Boralex Ashland will acquire, a 37 megawatt (net) wood-burning qualifying small power production facility located in Ashland, Maine, including the facilities' appurtenant interconnection facilities, power purchase agreements and rights and interest in an interconnection service agreement for one of the facilities. Applicants state that Federal Energy Regulatory Commission approval is required for the divestiture and acquisition pursuant to section 203 of the FPA and the Public Utility Regulatory Policies Act of 1978 requirements applicable to qualifying facilities with a total capacity between 30 MW and 80 MW.

Comment date: August 1, 2001, in accordance with Standard Paragraph E at the end of this notice.

2. Walton Electric Membership Corporation

[Docket No. ER01-1400-003]

Take notice that on July 12, 2001, Walton Electric Membership Corporation (“Walton”) tendered for filing the Power Supply and Energy Call Agreement by and between Williams Energy Marketing & Trading Company and Walton as requested by Commission Staff.

Comment date: August 2, 2001, in accordance with Standard Paragraph E at the end of this notice.

3. New England Power Company

[Docket No. ER01-2567-000]

Take notice that on July 12, 2001, New England Power Company (NEP) submitted a revised Service Agreement for Network Integration Transmission Service (Service Agreement) between NEP and Danvers Electric Division. The Service Agreement is designated First Revised Service Agreement No. 127 under NEP's open access transmission tariff—New England Power Company, FERC Electric Tariff, Second Revised Volume No. 9.

Comment date: August 2, 2001, in accordance with Standard Paragraph E at the end of this notice.

4. Boralex Ashland, Inc.

[Docket No. ER01-2568-000]

Take notice that Boralex Ashland, Inc. (Boralex Ashland), on July 12, 2001, tendered for filing an application for authorization to sell capacity, energy and ancillary services at market-based rates pursuant to Section 205 of the Federal Power Act. Boralex Ashland also requests that the Commission accept for filing a long-term power purchase agreement for the sale of power from Boralex Ashland to WPS Energy Services, Inc., as a stand-alone rate schedule to Boralex Ashland's proposed market-based rate tariff.

Copies of the filing were served upon the Maine Public Service Commission and WPS Energy Services, Inc.

Comment date: August 2, 2001, in accordance with Standard Paragraph E at the end of this notice.

5. Boralex Livermore Falls, Inc.

[Docket No. ER01-2569-000]

Take notice that Boralex Livermore Falls, Inc. (Boralex Livermore Falls), on July 12, 2001, tendered for filing an application for authorization to sell capacity, energy and ancillary services at market-based rates pursuant to Section 205 of the Federal Power Act.

Copies of the filing were served upon the Central Maine Power Corporation.

Comment date: August 2, 2001, in accordance with Standard Paragraph E at the end of this notice.

6. Wisconsin Public Service Corporation

[Docket No. ER01-2571-000]

Take notice that on July 12, 2001, Wisconsin Public Service Corporation (WPSC) filed an executed long-term service agreement with Madison Gas and Electric Company (MG&E) under WPSC's market-based rate tariff, FERC Electric Tariff, Third Revised Volume No. 10 (Tariff). WPSC requests that the Commission allow the service agreement to become effective on September 22, 2001.

A copy of the filing was served upon MG&E.

Comment date: August 2, 2001, in accordance with Standard Paragraph E at the end of this notice.

7. Central Maine Power Company

[Docket No. ER01-2572-000]

Take notice that Central Maine Power Company (CMP), on July 12, 2001, tendered for filing pursuant to Section 205 of the Federal Power Act (FPA) of the Federal Energy Regulatory Commission (Commission or FERC), (i) an Amendment to Hydroelectric & Biomass Entitlement Agreement; and (ii) an Amendment to Cogeneration and Waste-to-Energy Entitlement Agreement (collectively, the Amendments between CMP and Engage Energy America LLC (Engage). In compliance with Order No. 614, FERC Stats. & Regs. 31,096 (2000), CMP also tendered for filing a Second Revised Hydroelectric & Biomass Entitlement Agreement and a Second Revised Cogeneration and Waste-to-Energy Entitlement Agreement (collectively, the Second Revised Agreements), each revised pursuant to the Amendments.

CMP respectfully requests that the Commission accept the Amendments and the Second Revised Agreements effective as of June 26, 2001, without modification or condition, and grant waiver of any and all requirements, including the Commission's notice requirements for good cause, for these agreements to become effective. Copies of this filing have been served on Engage and the State of Maine Public Utilities Commission.

Comment date: August 2, 2001, in accordance with Standard Paragraph E at the end of this notice.

8. Northern Indiana Public Service Company

[Docket No. ER01-2573-000]

Take notice that on July 12, 2001, Northern Indiana Public Service Company (Northern) tendered for filing a First Revised Northern Indiana Public Service Company Electric Rte Schedule FERC No. 11. The revision eliminates periodic facilities charges, effective May 1, 2001. Northern requests an effective date of May 1, 2001, and therefore requests waiver of the Commission's notice requirements.

Copies of the filing were served upon Michigan Public Service Commission, the Michigan Electric Transmission Company and the Indiana Utility Regulatory Commission.

Comment date: August 2, 2001, in accordance with Standard Paragraph E at the end of this notice.

9. NorthWestern Public Service Company

[Docket No. ER01-2574-000]

Take notice that on July 12, 2001, NorthWestern Public Service Company (NorthWestern) enclosed for filing executed service agreements for Firm Point-to-Point Transmission Service with the City of Bryant, South Dakota and the City of Miller, South Dakota (collectively, Transmission Customers). Copies of this filing were served on the Transmission Customers.

NorthWestern seeks an effective date of July 1, 2001 for these service agreements.

Comment date: August 2, 2001, in accordance with Standard Paragraph E at the end of this notice.

10. Central Power and Light Company

[Docket No. ER01-2575-000]

Take notice that on July 12, 2001, Central Power and Light Company (CLP) submitted for filing an Interconnection Agreement, dated September 2, 1998, between CPL and South Texas Electric Cooperative, Inc. (STEC) amended to include four additional points of interconnection between the parties. CPL served copies of the filing on STEC and the Public Utility Commission of Texas.

CPL seeks an effective date of September 8, 2001 for one of these points of interconnection and September 9, 2001 for the other three, and, accordingly, seeks waiver of the Commission's notice requirements.

Comment date: August 2, 2001, in accordance with Standard Paragraph E at the end of this notice.

11. Black Hills Generation, Inc.

[Docket No. ER01-2576-000]

Take notice that Black Hills Generation, Inc. (Black Hills) tendered for filing on July 12, 2001, the following long-term service agreements. Power Purchase Agreement Between Black Hills Generation, Inc. and Municipal Energy Agency of Nebraska. Power Purchase Agreement Between Black Hills Generation, Inc. and Cheyenne Light, Fuel and Power Company. Gillette Turbine Power Purchase Agreement Between Black Hills Generation, Inc. and Cheyenne Light, Fuel and Power Company.

Copies of the filings were provided to the Municipal Energy Agency of Nebraska, Cheyenne Light, Fuel and Power Company, Xcel Energy Markets, and Black Hills Power, Inc.

Black Hills Generation, Inc. has requested that further notice requirement be waived and the executed service agreements be allowed to become effective June 15, 2001.

Comment date: August 2, 2001, in accordance with Standard Paragraph E at the end of this notice.

12. Black Hills Corporation, n/k/a Black Hills Power, Inc.

[Docket No. ER01-2577-000]

Take notice that Black Hills Corporation, d/b/a Black Hills Power, Inc., a wholly-owned subsidiary of Black Hills Corporation, Inc. (a South Dakota holding corporation), on July 12, 2001, tendered for filing a Power Purchase Agreement Between Black Hills Power, Inc. and Municipal Energy Agency of Nebraska. Copies of the filing were provided to the Municipal Energy Agency of Nebraska and Black Hills Generation, Inc.

Black Hills Power, Inc. has requested that further notice requirement be waived and the executed service agreement be allowed to become effective June 15, 2001.

Comment date: August 2, 2001, in accordance with Standard Paragraph E at the end of this notice.

13. Orion Power MidWest, L.P.

[Docket No. ER01-2578-000]

Take notice that on July 12, 2001, Orion Power MidWest, L.P. (Orion Power MidWest) tendered for filing with the Federal Energy Regulatory Commission (Commission) an application and revised tariff sheets seeking authorization to amend its rate schedule enabling Orion Power MidWest to reassign transmission capacity.

Comment date: August 2, 2001, in accordance with Standard Paragraph E at the end of this notice.

14. Great River Energy

[Docket No. ER01-2583-000]

Take notice that on July 11, 2001, Great River Energy (Great River), filed a Request for Waiver of Section 1.14a of the Midwest Independent System Operator, Inc. (MISO) Open Access Transmission Tariff. If approved by the Commission, Great River's Request for Waiver would allow MISO to Grandfather Great River's network service agreements with Minnesota Power.

Copies of the filing have been served on each of MISO and Minnesota Power.

Comment date: August 1, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-18253 Filed 7-20-01; 8:45 am]

BILLING CODE 6717-01-P